DEPARTMENT OF STATE

[Public Notice: 11372]

Convening of an Accountability Review Board To Investigate the Murder of an Animal and Plant Health Inspection Service (APHIS) Locally Employed (LE) Staff Member in Tijuana, Mexico

Pursuant to Section 301 of the Omnibus Diplomatic Security and Antiterrorism Act of 1986, as amended (22 U.S.C. 4831), the Department of State convened an Accountability Review Board (ARB) to review the October 2020 murder of an APHIS LE Staff member in Tijuana, Mexico. The ARB will examine the facts and circumstances surrounding the incident and submit its findings to the Secretary of State, together with any recommendations as appropriate. The Department has appointed George Staples, a retired U.S. ambassador, as Chair of the Board. The other Board members are retired U.S. Ambassador Janice Jacobs, Mr. Dirk Dijkerman, Mr. John Eustace, and Mr. Kimber Davidson. They bring to their deliberations distinguished backgrounds in government service.

The Board will submit its findings and recommendations to the Secretary of State. The Department will report to Congress on any recommendations made by the Board and actions taken with respect to those recommendations.

Anyone with information relevant to the Board's examination of these incidents should contact the Board via email promptly at ARBTijuana2021@state.gov.

Zachary A. Parker,
Director, Office of Directives Management.

[FR Doc. 2021-05004 Filed 3-9-21; 8:45 am]

BILLING CODE 4710-10-P